DEPARTMENT OF COMMERCE

International Trade Administration

(C-122-815)

Final Results of Expedited Sunset Reviews of the Countervailing Duty Orders: Pure Magnesium and Alloy Magnesium from Canada

AGENCY: Import Administration, International Trade Administration, Department of Commerce.

SUMMARY: On July 1, 2005, the Department of Commerce (“the Department”) initiated sunset reviews of the countervailing duty (“CVD”) orders on pure magnesium and alloy magnesium from Canada pursuant to section 751(c) of the Tariff Act of 1930, as amended (“the Act”). See Initiation of Five-year (“Sunset”) Reviews, 70 FR 38101 (July 1, 2005). On the basis of a notice of intent to participate and an adequate substantive response filed on behalf of the domestic interested party and an inadequate response from respondent interested parties, the Department determined to conduct expedited sunset reviews of these CVD orders pursuant to section 751(c)(3)(B) of the Act and 19 CFR 351.218(e)(1)(ii)(C). As a result of these sunset reviews, the Department finds that revocation of the CVD orders would likely lead to continuation or recurrence of a countervailable subsidy at the levels indicated in the “Final Results of Reviews” section of this notice.

EFFECTIVE DATE: November 4, 2005.

FOR FURTHER INFORMATION CONTACT: Andrew McAllister or Devta Ohri, AD/CVD Operations, Office 1, Import Administration, International Trade Administration, U.S. Department of Commerce, 14th Street & Constitution Avenue, NW, Washington, D.C. 20230; telephone: (202) 482-1174 or (202) 482-3853, respectively.

SUPPLEMENTARY INFORMATION:

Background

On July 1, 2005, the Department initiated sunset reviews of the CVD orders on pure magnesium and alloy magnesium from Canada pursuant to section 751(c) of the Act. See Initiation of Five-year (“Sunset”) Reviews, 70 FR 38101 (July 1, 2005). The Department received a notice of intent to participate from the domestic industry (US Magnesium LLC) and the Government of Quebec (“GOQ”), within the deadline specified in 19 CFR 351.218(d)(1)(i). US Magnesium LLC (“US Magnesium”) claimed interested party status under section 771(9)(C) of the Act, while the GOQ claimed interested party status under section 771(9)(B) of the Act.

The Department received complete substantive responses from US Magnesium and the GOQ on August 1, 2005, within the 30-day deadline specified in 19 CFR 351.218(d)(3)(i). On August 5, 2005, the Department extended the due date for parties to submit rebuttal comments to August 12, 2005. On August 12, 2005, US Magnesium and the GOQ filed rebuttal comments. On August 22, 2005, the Department, in its adequacy determination, stated that because a government response alone is not sufficient for full sunset reviews in which the orders are not¹ done on an aggregate basis, pursuant to section 751(c)(3)(B) of the Act and 19 CFR 351.218(e)(1)(ii)(C)(2), we are conducting expedited reviews of these CVD orders. See Memorandum from Susan Kuhbach to Barbara E. Tillman: Adequacy Determination: 2nd Sunset Review of the Countervailing Duty Orders on Pure Magnesium and Alloy Magnesium from Canada, dated August 22, 2005, which is on file in the Central Records Unit, Room B-099 of the main Department building.

¹ The August 22, 2005, memo inadvertently omitted the word “not” which has been added to the phrase in this document.

Scope of the Orders

The products covered by these orders are shipments of pure and alloy magnesium from Canada. Pure magnesium contains at least 99.8 percent magnesium by weight and is sold in various slab and ingot forms and sizes. Magnesium alloys contain less than 99.8 percent magnesium by weight with magnesium being the largest metallic element in the alloy by weight, and are sold in various ingot and billet forms and sizes.

The pure and alloy magnesium subject to the orders is currently classifiable under items 8104.11.0000 and 8104.19.0000, respectively, of the Harmonized Tariff Schedule of the United States (“HTSUS”). Although the HTSUS subheadings are provided for convenience and customs purposes, the written descriptions of the merchandise subject to the orders are dispositive.

Secondary and granular magnesium are not included in the scope of these orders. Our reasons for excluding granular magnesium are summarized in Preliminary Determination of Sales at Less Than Fair Value: Pure and Alloy Magnesium From Canada, 57 FR 6094 (February 20, 1992).

Analysis of Comments Received

All issues raised in these reviews are addressed in the Issues and Decision Memorandum (“Decision Memorandum”) from Stephen J. Claeys, Deputy Assistant Secretary for Import Administration, to Joseph A. Spetrini, Acting Assistant Secretary for Import Administration, dated October 31, 2005, which is hereby adopted by this notice. Parties can find a complete discussion of all issues raised in these reviews and the corresponding recommendation in this public memorandum which is on file in the Central Records Unit room B-099 of the main Department building. In addition, a complete version of the Decision Memorandum can be accessed directly on the Web at http://ia.ita.doc.gov/frn. The paper copy and electronic version of the Decision Memorandum are identical in content.

Final Results of Reviews

We determine that revocation of the countervailing duty orders would be likely to lead to continuation or recurrence of a countervailable subsidy. With respect to the pure magnesium order, we are reporting a rate of 6.34 percent for “all others” and we have no basis for reporting a rate for NHCI. With respect to the alloy magnesium order, we are reporting a rate of 1.84 percent for Magnola, 8.18 percent for “all others,” and we have no basis for reporting a rate for NHCI.

Timminco, which was found to have an estimated net subsidy of zero in the original investigations, remains excluded from the orders. See Final Affirmative Countervailing Duty Determinations: Pure Magnesium and Alloy Magnesium from Canada, 57 FR 30946 (July 13, 1992).

Notification Regarding Administrative Protective Order

This notice serves as the only reminder to parties subject to administrative protective order (“APO”) of their responsibility concerning the return or destruction of proprietary information disclosed under APO in accordance with 19 CFR 351.305. Timely notification of return/destruction of APO materials or conversion to judicial protective order is hereby requested. Failure to comply with the regulations and the terms of an APO is a sanctionable violation.

We are issuing and publishing these results and notice in accordance with sections 751(c), 752, and 777(i)(1) of the Act.

Dated: October 31, 2005.
Joseph A. Spetrini,
Acting Assistant Secretary for Import Administration.

[FR Doc. E5-6126 Filed 11-3-05; 8:45 am]

BILLING CODE 3510-DS-S